DEPARTMENT OF TRANSPORTATION

Federal Aviation Administration

Eleventh Meeting: RTCA Special Committee 220: Automatic Flight Guidance and Control

AGENCY: Federal Aviation Administration (FAA), DOT.

ACTION: Correction of Notice of RTCA Special Committee 220 meeting: Automatic Flight Guidance and Control.

SUMMARY: The FAA is issuing this notice to advise the public of a meeting of RTCA Special Committee 220: Automatic Flight Guidance and Control

DATES: The meeting will be held September 13-15, 2011, from 9 a.m. to 5 p.m., unless stated otherwise.

ADDRESSES: The meeting will be held at RTCA, Inc., 1150 18th Street, Suite 910, NW., Washington, DC, 20036. For hotel information please view the following website: http://www.rtca.org/directions/directions.asp#hotels.

FOR FURTHER INFORMATION CONTACT: RTCA Secretariat, 1150 18th Street, Suite 910, NW., Washington, DC, 20036, telephone (202) 833-9339, fax (202) 833-9434, website http://www.rtca.org.

SUPPLEMENTARY INFORMATION: Pursuant to section 10(a) (2) of the Federal Advisory Committee Act (Pub. L. 92-463, 5 U.S.C., and Appendix 2), notice is hereby given for a Special Committee 220, Automatic Flight Guidance and Control

Agenda

Tuesday September 13—Thursday, September 15, 2011

Tuesday, September 13

• Introductions and Administrative Items

• Review of Meeting Agenda

• Review and approval of summary from the first plenary meeting RTCA paper no. 011-11/SC220-024

• Presentation of progress of Working Group-2

• Presentation of progress of Working Group-3

• Break-out sessions for Working Groups 2 and 3

Wednesday, September 14, 2011

• Continue Break-out sessions for Working Groups 2 and 3

• Continue development of Installation Guidance White Papers

Thursday, September 15, 2011

• Return to general plenary meeting

• Review of Working Group 2 Status—Progress, Issues and Plans

• Review of Working Group 3 Status—Progress, Issues and Plans

• Review of Action Items

• Administrative items (meeting schedule, location, and next meeting agenda)

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 8, 2011.
Robert L. Bostiga,
RTCA Advisory Committee.

[FR Doc. 2011-20744 Filed 8-15-11; 8:45 am]

BILLING CODE 4910-13-P